DEPARTMENT OF THE INTERIOR

Fish and Wildlife Service

[FWS-HQ-IA-2012-N215: FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before September 26, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Erik Lacy, Oakdale, CA; PRT-81003A

The applicant requests a captive-bred wildlife registration under 50 CFR 17.21(g) for the radiated tortoise (Astrochelys radiata) to enhance the species' propagation or survival. This notification covers activities to be conducted by the applicant over a 5-year period.

Applicant: La Coma the Red Gate Co., Edinburg, TX; PRT-81782A

The applicant requests a captive-bred wildlife registration under 50 CFR 17.21(g) for the barasingha (Rucervus duvaucelii), scimitar-horned oryx (Oryx dammah), addax (Addax nasomaculatus), dama gazelle (Nanger dama), and red lechwe (Kobus leche) to enhance the species' propagation or survival. This notification covers activities to be conducted by the applicant over a 5-year period.

Applicant: La Coma the Red Gate Co., Edinburg, TX; PRT-81783A

The applicant requests a permit authorizing interstate and foreign commerce, export, and cull of excess barasingha (Rucervus duvaucelii) and red lechwe (Kobus leche) from the captive herd maintained at their facility, for the purpose of enhancement of the survival of the species. This notification covers activities to be conducted by the applicant over a 5-year period.

Applicant: Melissa White, Elizabeth, CO; PRT-81903A

The applicant requests a captive-bred wildlife registration under 50 CFR 17.21(g) for the radiated tortoise (Astrochelys radiata) to enhance the species' propagation or survival. This notification covers activities to be conducted by the applicant over a 5-year period.

Applicant: Tipurtu South Texas Investments, Ltd., Carrizo Springs, TX; PRT-81674A

The applicant requests a captive-bred wildlife registration under 50 CFR 17.21(g) for the scimitar-horned oryx (Oryx dammah) to enhance the species' propagation or survival. This notification covers activities to be conducted by the applicant over a 5-year period.

Applicant: Tipurtu South Texas Investments, Ltd., Carrizo Springs, TX; PRT-81673A

The applicant requests a permit authorizing interstate and foreign commerce, export, and cull of excess scimitar-horned oryx (Oryx dammah) from the captive herd maintained at their facility, for the purpose of enhancement of the survival of the species. This notification covers activities to be conducted by the applicant over a 5-year period.

Applicant: Squaw Mountain Ranch Outfitters, Jacksboro, TX; PRT-81327A

The applicant requests a captive-bred wildlife registration under 50 CFR 17.21(g) for the scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Squaw Mountain Ranch Outfitters, Jacksboro, TX; PRT-81329A

The applicant requests a permit authorizing interstate and foreign commerce, export, and cull of excess scimitar-horned oryx (Oryx dammah), Arabian oryx (Oryx leucoryx), addax (Addax nasomaculatus), dama gazelle (Nanger dama), and red lechwe (Kobus leche) from the captive herd maintained at their facility, for the purpose of enhancement of the survival of the species. This notification covers activities to be conducted by the applicant over a 5-year period.

Applicant: Gomez Development LLC, Edinburg, TX; PRT-81324A

The applicant requests a captive-bred wildlife registration under 50 CFR 17.21(g) for the scimitar-horned oryx (Oryx dammah) to enhance the species' propagation or survival. This notification covers activities to be conducted by the applicant over a 5-year period.

Applicant: Gomez Development LLC, Edinburg, TX; PRT-81326A

The applicant requests a permit authorizing interstate and foreign commerce, export, and cull of excess scimitar-horned oryx (Oryx dammah) from the captive herd maintained at their facility, for the purpose of enhancement of the survival of the species. This notification covers activities to be conducted by the applicant over a 5-year period.

Applicant: Glades Herp Farm Inc., Bushnell, FL; PRT-81039A

The applicant requests a captive-bred wildlife registration under 50 CFR 17.21(g) for the following families and species, to enhance their propagation or survival. This notification covers activities to be conducted by the applicant over a 5-year period.

Families:

Crocodylidae

Species:

Galapagos tortoise (Chelonoidis nigra)

Radiated tortoise (Astrochelys radiata)

Indian python (Python molurus molurus)

Aruba island rattlesnake (Crotalus durissus unicolor)

Cuban ground iguana (Cyclura nubila nubila)

Grand Cayman blue iguana (Cyclura lewisi)

Cayman Brac ground iguana (Cyclura nubila caymanensis)

Applicant: Boulder Ridge Ranch LLC, Alto, MI; PRT-80856A

The applicant requests a captive-bred wildlife registration under 50 CFR 17.21(g) for the following species, to enhance their propagation or survival. This notification covers activities to be conducted by the applicant over a 5-year period.

Species:

Galapagos tortoise (Chelonoidis nigra)

Radiated tortoise (Astrochelys radiata)

Nile crocodile (Crocodiles niloticus)

Salmon-crested cockatoo (Cacatua moluccensis)

Ring-tailed lemur (Lemur catta)

Black and white ruffed lemur (Varecia variegata)

Cottontop tamarin (Saguinus oedipus)

Asian wild ass (Equus hemionus)

Dama gazelle (Nanger dama)

Addax (Addax nasomaculatus)

Scimitar-horned oryx (Oryx dammah)

Red lechwe (Kobus leche)

Applicant: Bamberger Ranch Preserve, Johnson City, TX; PRT-79430A

The applicant requests a permit authorizing interstate and foreign commerce, export, and cull of excess scimitar-horned oryx (Oryx dammah) from the captive herd maintained at their facility, for the purpose of enhancement of the survival of the species. This notification covers activities to be conducted by the applicant over a 5-year period.

Applicant: Donald Palmerino, Southbridge, MA; PRT-74561A

The applicant requests a captive-bred wildlife registration under 50 CFR 17.21(g) for the golden parakeet (Guarouba guarouba) to enhance the species' propagation or survival. This notification covers activities to be conducted by the applicant over a 5-year period.

Applicant: Jackson Zoological Society, Inc., Jackson, MS; PRT-691441

The applicant requests renewal of their captive-bred wildlife registration under 50 CFR 17.21(g) for the following families, to enhance their propagation or survival. This notification covers activities to be conducted by the applicant over a 5-year period.

Families:

Callithricidae

Cercopithecidae

Equidae

Erethizontidae

Felidae (does not include jaguar, margay, or ocelot)

Hominidae

Hylobatidae

Lemuridae

Rhinocerotidae

Tapiridae

Sturnidae (does not include Aplonis pelzelni)

Crocodylidae (does not include American crocodile)

Applicant: Turtle Back Zoo, West Orange, NJ; PRT-75691A

The applicant requests a permit to export one female captive-bred Amur leopard (Panthera pardus orientalis) for the purpose of enhancement of the survival of the species.

Applicant: U.S. Fish and Wildlife Service-MBO/SJV, Tucson, AZ; PRT-67109A

The applicant requests a permit to export and re-import captive-bred and wild specimens including live biological samples, salvaged material, and viable eggs of Masked bobwhite quail (Colinus virginianus ridgwayi), as part of the identified tasks and mandates of the recovery program for this species. This notification covers activities to be conducted by the applicant over a 5-year period.

Applicant: Harkey Ranch Enterprises, LLC, Brownwood, TX; PRT-79777A

The applicant requests a captive-bred wildlife registration under 50 CFR 17.21(g) for the scimitar-horned oryx (Oryx dammah) to enhance the species' propagation or survival. This notification covers activities to be conducted by the applicant over a 5-year period.

Applicant: Ryan McDonald, Waxahachie, TX; PRT-82656A

The applicant requests a captive-bred wildlife registration under 50 CFR 17.21(g) for the radiated tortoise (Astrochelys radiata) to enhance the species' propagation or survival. This notification covers activities to be conducted by the applicant over a 5-year period.

Applicant: Valerie Holt, Moapa, NV; PRT-165748

The applicant requests renewal of their captive-bred wildlife registration under 50 CFR 17.21(g) for the brush-tailed rat-kangaroo or Woylie (Bettongia penicillata), ring-tailed lemur (Lemur catta), brown lemur (Eulemur fulvus), black and white ruffed lemur (Varecia variegata), red ruffed lemur (Varecia rubra), and golden parakeet (Guarouba guarouba) to enhance the species' propagation or survival. This notification covers activities to be conducted by the applicant over a 5-year period.

Applicant: Scovill Zoo, Decatur, IL; PRT-704654

The applicant requests renewal of their captive-bred wildlife registration under 50 CFR 17.21(g) for the family Lemuridae, to enhance the species' propagation or survival. This notification covers activities to be conducted by the applicant over a 5-year period.

Applicant: Florida Fish & Wildlife Conservancy Commission, Port Charlotte, FL; PRT-82590A

The applicant requests a permit to export fin clip samples to a laboratory in Canada for management plans of the species smalltooth sawfish (Pristis pectinata) 350 samples wild, for the purpose of scientific research. This notification covers activities to be conducted by the applicant over a 5-year period.

Applicant: Louisville Zoological Garden, Louisville, KY; 680317

The applicant requests renewal of their captive-bred wildlife registration under 50 CFR 17.21(g) for the following families and species, to enhance their propagation or survival. This notification covers activities to be conducted by the applicant over a 5-year period.

Families:

Felidae

Lemuridae

Species:

Cuban crocodile (Crocodylus rhombifer)

Applicant: Smithsonian National Zoological Park, Washington, DC; PRT-75218A

The applicant requests a permit to take biological samples, from 70 green sea turtles (Chelonia mydas) in Costa Rica and 70 loggerhead sea turtles (Caretta caretta) in Mexico. These are from a wild source for the purpose of enhancement of the survival of the species/scientific research. This notification covers activities to be conducted by the applicant over a 5-year period.

Applicant: John Hattner, Keller, TX; PRT-81990A

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2012-21007 Filed 8-24-12; 8:45 am]

BILLING CODE 4310-55-P